DEPARTMENT OF COMMERCE

Bureau of Industry and Security

15 CFR Part 730

[Docket No. 050202023-5023-01]

RIN 0694-AD40

Editorial Corrections to the Export Administration Regulations

AGENCY: Bureau of Industry and Security, Commerce.

ACTION: Final rule.

SUMMARY: This final rule amends the Export Administration Regulations to update a fax number and to update the list of information collections. The Paperwork Collection List identifies the control numbers assigned to information collection requirements under the Export Administration Regulations (EAR) by the Office of Management and Budget pursuant to the Paperwork Reduction Act. This action makes editorial corrections and updates and is not intended to have a substantive effect on the rights or obligations of the public.

DATES: This rule is effective March 22, 2005.

ADDRESSES: You may submit comments, identified by RIN 0694-AD40, by any of the following methods:

• E-mail: scook@bis.doc.gov. Include “RIN 0694-AD40” in the subject line of the message.

• Fax: (202) 482-3355.

• Mail or Hand Delivery/Courier: Sharron Cook, U.S. Department of Commerce, Bureau of Industry and Security, Regulatory Policy Division, 14th & Pennsylvania Avenue, NW., Room 2705, Washington, DC 20230, ATTN: RIN 0694-AD40.

FOR FURTHER INFORMATION CONTACT: Sharron Cook, Regulatory Policy Division, Office of Exporter Services, Bureau of Industry and Security, Telephone: (202) 482-2440.

SUPPLEMENTARY INFORMATION:

Background

This rule amends section 730.8 of the EAR by correcting the fax number of the Outreach & Exporter Services Division of the Bureau of Industry and Security to (202) 482-2927.

In addition, this rule updates the Paperwork Collections List to delete information collections that are no longer in effect and to add new information collections that have been approved.

Although the Export Administration Act expired on August 20, 2001, Executive Order 13222 of August 17, 2001 (66 FR 44025, August 22, 2001), extended by the Notice of August 6, 2004, 69 FR 48763 (August 10, 2004), continues the EAR in effect under the International Emergency Economic Powers Act.

Rulemaking Requirements

1. This final rule has been determined to be not significant for purposes of E.O. 12866.

2. Paperwork Reduction Act: Notwithstanding any other provision of law, no person is required to respond to, nor shall any person be subject to a penalty for failure to comply with a collection of information, subject to the requirements of the Paperwork Reduction Act of 1995 (44 U.S.C. 3501 et seq.) (PRA), unless that collection of information displays a currently valid Office of Management and Budget (OMB) Control Number. This rule does not affect or include any collections of information.

3. This rule does not contain policies with federalism implications as that term is defined under E.O. 13132.

4. The Department finds that there is good cause under 5 U.S.C. 553(b)(B) to waive the provisions of the Administrative Procedure Act (5 U.S.C. 553) requiring notice of proposed rulemaking and the opportunity for public participation. This rule makes changes to part 730 of the EAR that are purely administrative and do not affect the rights or obligations of the public. The information in part 730 is general and not regulatory. The controlling regulatory language is the language of succeeding parts of the EAR and of any other law or regulation referred to or applicable. This rule makes editorial corrections to update the contact information of the offices in the Bureau of Industry and Security, and updates the Paperwork Collections List.

Because these revisions are not substantive changes to the EAR, it is unnecessary to provide notice and opportunity for public comment. In addition, because this is not a substantive rule, the delay in effective date pursuant to 5 U.S.C. 553(d)(3) is not applicable. Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable.

Therefore, this regulation is issued in final form. Although there is no formal comment period, public comments on this regulation are welcome on a continuing basis. Please refer to the ADDRESSES section cited above for comment submission.

List of Subjects in 15 CFR Part 730

Administrative practice and procedure, Advisory committees, Exports, Reporting and, recordkeeping requirements, Strategic and critical materials.

Accordingly, part 730 of the Export Administration Regulations (15 CFR parts 730-799) is amended as follows:

PART 730—[AMENDED]

1. The authority citation for 15 CFR part 730 continues to read as follows:

Authority: 50 U.S.C. app. 2401 et seq.; 50 U.S.C. 1701 et seq.; 10 U.S.C. 7420; 10 U.S.C. 7430(e); 18 U.S.C. 2510 et seq.; 22 U.S.C. 287c; 22 U.S.C. 2151 note, Pub. L. 108-175; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 11912, 41 FR 15825, 3 CFR, 1976 Comp., p. 114; E.O. 12002, 42 FR 35623, 3 CFR, 1977 Comp., p.133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp. p. 219; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; E.O. 13338, 69 FR 26751, May 13, 2004; Notice of August 6, 2004, 69 FR 48763 (August 10, 2004); Notice of November 4, 2004, 69 FR 64637 (November 8, 2004).

2. Revise paragraph (c) in § 730.8 to read as follows:

§ 730.8 How to proceed and where to get help.

* * * * *

(c) Where to get help. Throughout the EAR you will find information on offices you can contact for various purposes and types of information. General information including assistance in understanding the EAR, information on how to obtain forms, electronic services, publications, and information on training programs offered by BIS, is available from the Office of Export Services at the following locations:

Outreach & Exporter Services Division, U.S. Department of Commerce, 14th and Pennsylvania Avenue, NW., Room H1009D, Washington, DC 20230, Tel: (202) 482-4811, Fax: (202) 482-2927; and

Western Regional Office, U.S. Department of Commerce, 3300 Irvine Avenue, Suite 345, Newport Beach, California 92660, Tel: (949) 660-0144, Fax: (949) 660-9347; and

U.S. Export Assistance Center, Bureau of Industry and Security, 152 N. Third Street, Suite 550, San Jose, California 95112-5591, Tel: (408) 998-7402, Fax: (408) 998-7470.

3. Revise the chart in Supplement No. 1 to Part 730 to read as follows:

Supplement No. 1 to Part 730—Information Collection Requirements Under the Paperwork Reduction Act: OMB Control Numbers

* * * * *

Collection number | Title | Reference in the EAR
0694-0004 | Foreign Availability Procedures and Criteria | part 768.
0694-0009 | Approval of Triangular Transactions Involving Commodities Covered by a U.S. Import Certificate | § 748.10(e).
0694-0012 | Report of Requests for Restrictive Trade Practice or Boycott—Single or Multiple Transactions | part 760 and § 762.2(b).
0694-0013 | Computers and Related Equipment EAR Supplement 2 to Part 748 | part 774.
0694-0016 | Delivery Verification Certificate | §§ 748.13 and 762.2(b).
0694-0017 | International Import Certificate | § 748.10
0694-0021 | Statement by Ultimate Consignee and Purchaser | §§ 748.11 and 762.2(b).
0694-0023 | Written Assurance Requirement of License Exception TSR (Technology and Software Under Restriction) | §§ 740.3(d) and 740.4(c).
0694-0025 | Short Supply Regulations—Unprocessed Western Red Cedar | §§ 754.4 and 762.2(b).
0694-0026 | Short Supply Regulations—Petroleum Products | § 754.3.
0694-0027 | Short Supply Regulations Petroleum (Crude Oil) | § 754.2.
0694-0029 | License Exception TMP: Special Requirements | § 740.9(a)(2)(viii)(B).
0694-0033 | License Exception, Humanitarian Donations | §§ 740.12(b)(7), 762.2(b), Supp. No. 2 to part 740.
0694-0047 | Technology Letter of Explanation | Supplement No. 2 to part 748, paragraph (o)(2).
0694-0058 | Procedure for Voluntary Self-Disclosure of Violations | §§ 762.2(b) and 764.5.
0694-0073 | Export Controls of High Performance Computers | § 742.12, Supplement No. 3 to part 742, and § 762.2(b).
0694-0086 | Report of Sample Shipments of Chemical Weapon Precursors | Supplement No. 1 to part 774.
0694-0088 | Simplified Network Application Processing+ System (SNAP+) and the Multipurpose Export License Application | parts 746, 748, and 752; § 762.2(b).
0694-0089 | Special Comprehensive License Procedure | part 752 and § 762.2(b).
0694-0093 | Import Certificates And End-User Certificates | §§ 748.9, 748.10, 762.5(d), 762.6 764.2(g)(2).
0694-0096 | Five Year Records Retention Period | part 760, § 762.6(a).
0694-0100 | Requests for Appointment of Technical Advisory Committee | Supplement No. 1 to part 730.
0694-0101 | One-Time Report For Foreign Software or Technology Eligible For De Minimis Exclusion | § 734.4.
0694-0102 | Registration of U.S. Agricultural Commodities For Exemption From Short Supply Limitations on Export”, and “Petitions For The Imposition of Monitoring Or Controls On Recyclable Metallic matrials; Public Hearings | §§ 754.6 and 754.7.
0694-0104 | Review, Reporting, and Notification of Commercial Encryption Items | §§ 740.9(c), 740.13(e), 740.17 and 742.15(b).
0694-0106 | Reporting and Recordkeeping Requirements under the Wassenaar Arrangement | § 743.1.
0694-0107 | National Defense Authorization Act (NDAA) | §§ 740.7, 742.12.
0694-0117 | Chemical Weapons Convention Provisions of the Export Administration Regulations (Schedule 1 Advance Notifications and Reports and Schedule 3 End-use Certificates) | Part 745.
0694-0122 | Licensing Responsibilities and Enforcement | Part 758, and § 748.4.
0694-0123 | Prior Notification of Exports under License Exception AGR | § 740.18.
0694-0125 | BIS Seminar Evaluation | N/A
0694-0126 | Export License Services—Transfer of License Ownership, Requests for a Duplicate License | § 750.9.
0694-0129 | Export and Reexport Controls For Iraq | § 732.3, 738, 744.18, 746.3(b)(1), 747, 750, 758, 762, 772, 774.
0607-0152 | Shipper's Export Declaration (SED)/Automated Export System (AES) Program FORMS: 7525-V AES | §§ 740.1(d) 740.3(a)(3), 752.7(b), §§ 752.15(a). §§ 754.2(h) and 754.4(c), 758.1, §§ 758.2, and 758.3 of the EAR.

Dated: March 14, 2005.
Matthew S. Borman,
Deputy Assistant Secretary for Export Administration.

[FR Doc. 05-5548 Filed 3-21-05; 8:45 am]

BILLING CODE 3510-33-P